INTERNATIONAL TRADE COMMISSION

[Inv. Nos. 701-TA-415 and 731-TA-933-934 (Third Review)]

Polyethylene Terephthalate (PET) Film From India and Taiwan; Cancellation of Hearing for Third Full Five-Year Reviews

AGENCY: United States International Trade Commission.

ACTION: Notice.

DATES: July 10, 2020.

FOR FURTHER INFORMATION CONTACT: Charles Cummings ((202) 708-1666), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for these reviews may be viewed on the Commission's electronic docket (EDIS) at http://edis.usitc.gov.

SUPPLEMENTARY INFORMATION: Effective March 18, 2020, the Commission established a schedule for the conduct of these reviews (85 FR 16957, March 25, 2020). Counsel for DuPont Teijin Films, Mitsubishi Polyester Film, Inc., SKC, Inc., and Toray Plastics (America), Inc. and counsel for Polyplex USA, LLC filed requests to appear at the hearing. Subsequently, counsel for the domestic parties filed a joint request for consideration of cancellation of the hearing. Counsel indicated a willingness to submit written responses to any Commission questions in lieu of an actual hearing. No other party has entered an appearance in these reviews. Upon consideration of the request, the Commission determined that, in lieu of the public hearing in connection with these reviews, scheduled to begin at 9:30 a.m. on Thursday, July 16, 2020, interested parties who timely made a request to appear at the hearing are invited to respond to any written questions posed by the Commission in their posthearing briefs, which are due to be filed on July 23, 2020.

For further information concerning these reviews see the Commission's notice cited above and the Commission's Rules of Practice and Procedure, part 201, subparts A through E (19 CFR part 201), and part 207, subparts A and C (19 CFR part 207).

Authority: These reviews are being conducted under authority of title VII of the Tariff Act of 1930; this notice is published pursuant to section 207.62 of the Commission's rules.

By order of the Commission.
Issued: July 13, 2020.
Lisa Barton,
Secretary to the Commission.

[FR Doc. 2020-15460 Filed 7-16-20; 8:45 am]

BILLING CODE 7020-02-P